COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be provided by nonprofit agencies employing persons who are blind or have other severe disabilities, and deletes products and services previously furnished by such agencies.

Comments Must Be Received on or Before: 9/3/2012.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION:

This notice is published pursuant to 41 USC 8503 (a)(2) and 41 CFR 51-2.3. Its purpose is to provide interested persons an opportunity to submit comments on the proposed actions.

Additions

If the Committee approves the proposed additions, the entities of the Federal Government identified in this notice will be required to provide the services listed below from the nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 8501-8506) in connection with the services proposed for addition to the Procurement List.

Comments on this certification are invited. Commenters should identify the statement(s) underlying the certification on which they are providing additional information.

End of Certification

The following services are proposed for addition to the Procurement List for production by the nonprofit agencies listed:

Services:

Service Type/Location: Janitorial Service, US Department of Agriculture Natural Resources, Conservation Service, Shiprock Field Office, Old Post Office Route 491, Shiprock, NM.

NPA: Presbyterian Medical Services, Santa Fe, NM.

Contracting Activity: US Department of Agriculture Natural Resources Conservation Service, Soil Conservation Service, Phoenix, AZ.

Service Type/Location: Storage and Distribution of Various Federal Supply Classes (FSC) Defense Logistics Agency Aviation, Richmond, VA.

NPAs: Industries for the Blind, Greensboro, NC Arizona Industries for the Blind, Phoenix, AZ

Contracting Activity: Defense Logistics Agency Aviation, Richmond, VA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 8501-8506) in connection with the products and services proposed for deletion from the Procurement List.

End of Certification

The following products and services are proposed for deletion from the Procurement List:

Products:

Glove Powder Free, Encore Hydrasoft

NSN: 6515-00-NIB-0445

NSN: 6515-00-NIB-0446

NSN: 6515-00-NIB-0447

NSN: 6515-00-NIB-0448

NSN: 6515-00-NIB-0449

NSN: 6515-00-NIB-0450

NSN: 6515-00-NIB-0451

NSN: 6515-00-NIB-0452

NPA: Bosma Industries for the Blind, Inc., Indianapolis, IN.

Contracting Activity: Department of Veterans Affairs, NAC, Hines, IL.

Services

Service Type/Location: Sorting of Time & Attendance Reports, Department of Transportation, 1777 Phoenix Parkway Building, College Park, GA.

NPA: WORKTEC, Jonesboro, GA

Contracting Activity: Department of Transportation, Saint Lawrence Seaway Development Corp., Massena, NY.

Service Type/Location: Mailroom Operation, U.S. Army Reserve Command, Atlanta, GA.

NPA: WORKTEC, Jonesboro, GA

Contracting Activity: Dept of the Army, W6qM MICC Ctr-Ft Sam Houston, Fort Sam Houston, TX.

Barry S. Lineback,
Director, Business Operations.

[FR Doc. 2012-19035 Filed 8-2-12; 8:45 am]

BILLING CODE 6353-01-P